DEPARTMENT OF HEALTH AND HUMAN SERVICES

Centers for Disease Control and Prevention

National Center for Health Statistics (NCHS), Classifications and Public Health Data Standards, Announces the Following Meeting

Name: ICD-9-CM Coordination and Maintenance Committee meeting.

Times and Dates: 9 a.m.-4 p.m., April 1-2, 2004.

Place: Centers for Medicare and Medicaid Services (CMS) Auditorium, 7500 Security Boulevard, Baltimore, Maryland.

Status: Open to the public.

Purpose: The ICD-9-CM Coordination and Maintenance (C&M) Committee will hold its first meeting of 2004 calendar year cycle on Thursday and Friday April 1-2, 2004. The C&M meeting is a public forum for the presentation of proposed modifications to the International Classification of Diseases, Ninth-Revision, Clinical Modification.

Matters to Be Discussed: Agenda items include: Retroperitoneal abscess, Worn out joint prosthesis, Partial and complete edentulism, Effects of Red Tides, Erythromelalgia, Phlebitis and thrombophlebitis, Stroke/CVA, Overweight, Symptomatic torsion dystonia, Egg donor, Left atrial appendage filter system, Carotid artery stents, Laparoscopic total hip replacement, Palatal implant for obstructive sleep apnea, Internal limb lengthening device, Vasopressor agents, Computer assisted surgery, Vertebroplasty and kyphoplasty, Addenda, and ICD-10-Procedure classification system (ICD-10-PCS) update.

FOR FURTHER INFORMATION CONTACT: Amy Blum, Medical Classification Specialist, Classifications and Public Health Data Standards Staff, NCHS, 3311 Toledo Road, Room 2402, Hyattsville, Maryland 20782, telephone 301-458-4106 (diagnosis), Amy Gruber, Health Insurance Specialist, Division of Acute Care, CMS, 7500 Security Blvd., Room C4-07-07, Baltimore, Maryland 21244, telephone 410-786-1542 (procedures).

Note: In the interest of security, (CMS) has instituted stringent procedures for entrance into the building by non-government employees. Persons without a government I.D. will need to show a photo I.D. and sign-in at the security desk upon entering the building.

Because of increased security requirements, those who wish to attend a specific ICD-9-CM C&M meeting in the CMS auditorium must submit their name and organization for addition to the meeting visitor list. Those wishing to attend the April 1-2, 2004 meeting must submit their name and organization by March 29, 2004 for inclusion on the visitor list. This visitor list will be maintained at the front desk of the CMS building and used by the guards to admit visitors to the meeting. Those who attended previous ICD-9-CM C&M meetings will no longer be automatically added to the visitor list. You must request inclusion of your name prior to each meeting you attend.

Send your name and organization to one of the following by March 29, 2004 in order to attend the April 1-2, 2004 meeting: Pat Brooks, pbrooks1@cms.hhs.gov, 410-786-5318; Ann Fagan, afagan@cms.hhs.gov, 410-786-5662; Amy Gruber, agruber@cms.hhs.gov, 410-786-1542.

Note: This is a public meeting. However, because of fire code requirements, should the number of attendants meet the capacity of the room, the meeting will be closed.

The Director, Management Analysis and Services Office, has been delegated the authority to sign Federal Register notices pertaining to announcements of meetings and other committee management activities, for both CDC and the Agency for Toxic Substances and Disease Registry.

Dated: March 1, 2004.
Alvin Hall,
Director, Management Analysis and Services Office, Centers for Disease Control and Prevention.

[FR Doc. 04-4943 Filed 3-4-04; 8:45 am]

BILLING CODE 4160-18-P